DEPARTMENT OF AGRICULTURE

Rural Business-Cooperative Service

[Docket No. RBS-22-Business-0001]

Notice of Extension of a Currently Approved Information Collection

AGENCY: Rural Business-Cooperative Service, USDA.

ACTION: Notice and request for comment.

SUMMARY: In accordance with the Paperwork Reduction Act of 1995, this notice announces the Rural Business-Cooperative Service's (RBCS or Agency), an agency within the United States Department of Agriculture, Rural Development, intention to request an extension of a currently approved information collection package for the Meat and Poultry Processing Expansion Program (MPPEP). The MPPEP program promotes competition and gives more and better options to producers by increasing meat and poultry processing capacity.

DATES: Comments on this notice must be received by May 3, 2022 to be assured of consideration.

FOR FURTHER INFORMATION CONTACT: Pamela Bennett, Regulations Management Division, Innovation Center, U.S. Department of Agriculture. Email: pamela.bennett@usda.gov. Telephone: (202) 720-9639.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS is submitting to OMB for approval. Comments are invited on: (a) Whether the proposed collection of information is necessary for the proper performance of the functions of the Rural Business-Cooperative Service, including whether the information will have practical utility; (b) the accuracy of the Rural Business-Cooperative Service's estimate of the burden of the proposed collection of information including validity of the methodology and assumptions used; (c) ways to enhance the quality, utility and clarity of the information to be collected; and (d) ways to minimize the burden of the collection of information on those who are to respond, including through the use of appropriate automated, electronic, mechanical, or other technological collection techniques or other forms of information technology.

Comments may be sent by the Federal eRulemaking Portal: Go to https://www.regulations.gov and, in the “Search” box, type in the Docket No. RBS-22-Business-0001. A link to the Notice will appear. You may submit a comment here by selecting the “Comment” button or you can access the “Docket” tab, select the “Notice,” and go to the “Browse & Comment on Documents” Tab. Here you may view comments that have been submitted as well as submit a comment. To submit a comment, select the “Comment” button, complete the required information, and select the “Submit Comment” button at the bottom. Information on using Regulations.gov, including instructions for accessing documents, submitting comments, and viewing the docket after the close of the comment period, is available through the site's “FAQ” link at the bottom.

Title: Meat and Poultry Processing Expansion Program.

OMB Control Number: 0570-0079.

Type of Request: Extension of a currently approved information collection.

Abstract: The Rural Business-Cooperative Service administers the Meat and Poultry Processing Expansion Program. The purpose of the program is to provide more and better options to producers and consumers as well as offer assistance to maintain and improve the food and agricultural supply chain resiliency. This information collection will be used to obtain information necessary to evaluate grant applications to determine the eligibility of the applicant and the project for the program and to qualitatively assess the project's technical and financial merit to determine which projects should be funded.

Estimate of Burden: Public reporting burden for this collection of information is estimated to average 2.3 hours per response.

Respondents: Respondents for this data federally recognized tribes, tribal entities, for-profit entities, corporations, non-profit entities, producer-owned cooperatives and corporations, certified benefit corporations and state or local government entities.

Estimated Number of Respondents: 50.

Estimated Number of Responses per Respondent: 18.4.

Estimated Number of Responses: 922.

Estimated Total Annual Burden on Respondents: 2,116 hours.

Copies of this information collection can be obtained from Pamela Bennett, Rural Development Innovation Center, Regulations Management Division, at (202) 720-9639. All responses to this notice will be summarized and included in the request for OMB approval. All comments will also become a matter of public record.

Karama Neal,
Administrator, Rural Business-Cooperative Service.

[FR Doc. 2022-04597 Filed 3-3-22; 8:45 am]

BILLING CODE 3410-XY-P